DEPARTMENT OF THE TREASURY

Submission for OMB Review; Comment Request

December 23, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 2, 2006 to be assured of consideration.

Internal Revenue Service (IRS)

OMB Number: 1545-1954.

Type of Review: Extension.

Title: Health Coverage Tax Credit Registration Update Form.

Form: IRS form 13704.

Description: Internal Revenue Code Section 35 and 7527 enacted by Public Law 107-210 require the Internal Revenue Service to provide payments of the HCTC to eligible individuals beginning August 1, 2003. The IRS will use the Registration Update form to ensure, that the processes and communications for delivering these payments help taxpayers determine if they are eligible for the credit and understand what they need to do to continue to receive it.

Respondents: Individuals or households, Federal Government, State, local or tribal government.

Estimated Total Burden Hours: 1,100 hours.

OMB Number: 1545-1955.

Type of Review: Extension

Title: Request to Revoke Partnership Level Tax Treatment Election

Form: IRS form 8894

Description: IRC section 6231(a)(1)(B)(ii) allows small partnerships to elect to be treated under the unified audit and litigation procedures. This election can only be revoked with the consent of the IRS. Form 8894 will provide a standardize format for small partnership to request this revocation and for the IRS to process it.

Respondents: Business or other for-profit, Individual or households.

Estimated Total Burden Hours: 186 hours.

OMB Number: 1545-1959.

Type of Review: Extension.

Title: Contributions of Motor Vehicles, Boats, and Airplanes.

Form: IRS form 1098-C.

Description: Section 884 of the American Jobs Creation Act of 2004 (Pub. L. 108-357) added new paragraph 12 to section 170(f) for contributions of used motor vehicles, boats, and airplanes. Section 17(f)(12) requires that a donee organization provide an acknowledgement to the donor of this type of property and is required to file the same information to the Internal Revenue Service. New form 1098-C may be used as the acknowledgement and it or an acceptable substitute, must be filed with the IRS.

Respondents: Not-for-profit institutions, State, local or tribal Government.

Estimated Total Burden Hours: 1,000 hours.

OMB Number: 1545-0916.

Type of Review: Extension.

Title: EE-96-85 (NPRM) and EE-63-84 (Temporary regulations) Effective dates and other issues arising under Employee Benefit provisions of the Tax Reform Act of 1984.

Description: These temporary regulations provide rules relating to effective dates and other issues arising under sections 91, 223, and 511-561 of the Tax Reform Act of 1984.

Respondents: Business or other for-profit, Individuals or households, not-for-profit institutions.

Estimated Total Burden Hours: 4,000 hours.

Clearance Officer: Glenn P. Kirkland (202) 622-3428, Internal Revenue Service, Room 6516, 1111 Constitution Avenue, NW., Washington, DC 20224.

OMB Reviewer: Alexander T. Hunt (202) 395-7316, Office of Management and Budget, Room 10235, New Executive Office Building, Washington, DC 20503.

Michael A. Robinson,
Treasury PRA Clearance Officer.

[FR Doc. E5-8197 Filed 12-30-05; 8:45 am]

BILLING CODE 4830-01-P